DEPARTMENT OF ENERGY

Federal Energy Regulatory Commission

[Docket Nos. CP07-62-000; CP07-63-000]

AES Sparrows Point LNG, LLC, Mid-Atlantic Express, L.L.C; Notice of Availability of the Draft General Conformity Determination and Notice of Public Comment for the Proposed Sparrows Point LNG Project

September 26, 2008.

The staff of the Federal Energy Regulatory Commission (FERC or Commission) has prepared this Draft General Conformity Determination to assess the potential air quality impacts associated with the construction and operation of a liquefied natural gas (LNG) import terminal and natural gas pipeline proposed by AES Sparrows Point LNG, LLC and Mid-Atlantic Express, LLC, collectively referred to as AES, in the dockets referenced below.

This Draft General Conformity Determination was prepared to satisfy the requirements of the Clean Air Act.

Comment Procedures

Any person wishing to comment on this Draft General Conformity Determination may do so. To ensure consideration of your comments in the Final General Conformity Determination, it is important that we receive your comments before the date specified below. For your convenience, there are three methods in which you can use to submit your comments to the Commission. In all instances please reference the project docket numbers Docket No. CP07-62-000 and CP07-63-000 with your submission. The docket number can be found on the front of this notice. The Commission strongly encourages electronic filing of any comments on this Draft General Conformity Determination and has dedicated eFiling expert staff available to assist you at 202-502-8258 or efiling@ferc.gov.

1. You may file your comments electronically by using the Quick Comment feature, which is located on the Commission's Internet Web site at http://www.ferc.gov under the link to Documents and Filings. A Quick Comment is an easy method for interested persons to submit text-only comments on a project;

2. You may file your comments electronically by using the eFiling feature, which is located on the Commission's Internet Web site at http://www.ferc.gov under the link to Documents and Filings. FERC's eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

3. You may file your comments via mail to the Commission by sending an original and two copies of your letter to: Kimberly D. Bose, Secretary, Federal Energy Regulatory Commission, 888 First St., NE., Room 1A, Washington, DC 20426.

• Reference Docket Nos. CP07-62-000 and CP07-63-000 on the original and both copies;

• Label one copy of your comments for the attention of Gas Branch 2; PJ11.2; and

• Mail your comments so that they will be received in Washington, DC on or before November 3, 2008.

After all comments are reviewed, the staff will publish and distribute a Final General Conformity Determination for the Project.

Kimberly D. Bose,
Secretary.

[FR Doc. E8-23217 Filed 10-1-08; 8:45 am]

BILLING CODE 6717-01-P